DEPARTMENT OF COMMERCE

National Oceanic and Atmospheric Administration

Hydrographic Services Review Panel Meeting, March 4th-5th, 2025

AGENCY: Office of Coast Survey, National Ocean Service, National Oceanic and Atmospheric Administration (NOAA), Department of Commerce.

ACTION: Notice of public meeting; request for comment.

SUMMARY: This serves as the notice of a public meeting for the NOAA Hydrographic Services Review Panel (HSRP) Federal Advisory Committee from March 4th through March 5th, 2025, in St. Petersburg, FL. The agenda for the HSRP public meeting will be posted in advance of the meeting on the HSRP website. Individuals or groups who would like to comment on NOAA navigation, observation, and positioning services topics are encouraged to submit public comments in advance of the HSRP public meeting via email, during the public meeting in person, or during the public meeting via the “Questions” function in the meeting webinar if joining the public meeting virtually.

DATES: Members of the public may attend the NOAA HSRP public meeting in person or virtually on the following dates and at the following times:

1. March 4th, 2025, 9 a.m.-5:30 p.m. Eastern Standard Time (EST).

2. March 5th, 2025, 8:30 a.m.-5 p.m. EST.

ADDRESSES: Please visit the HSRP online landing page at https://www.nauticalcharts.noaa.gov/hsrp/hsrp.html for instructions on how to register to attend the HSRP public meeting in person and virtually, and for the most up-to-date information about the HRSP public meeting. The HSRP public meeting agenda, which is subject to change, will also be available via a link on the HSRP website. Draft meeting documents, presentations, background materials, past HSRP recommendation letters, and issue papers may be found there as well. Comments for the HSRP public meeting record may be submitted by one of the following methods:

• Email: Send written comments in advance of the HSRP public meeting to hydroservices.panel@noaa.gov, with “March 2025 HSRP meeting public comments” in the subject line of the email message.

• Webinar: Submit written comments during the HSRP public meeting through the HSRP webinar's “Questions” function. As time allows, commenters may be invited to orally expand on written comments they submitted during the public meeting's public comment periods.

• In person: Provide public comments during the daily public comment periods at the in-person meeting.

FOR FURTHER INFORMATION CONTACT: Amanda Phelps, Acting NOAA HSRP Program Manager, email: hydroservices.panel@noaa.gov, phone: (240) 543-0266.

SUPPLEMENTARY INFORMATION: The Hydrographic Services Improvement Act of 1998, as amended (HSIA; 33 U.S.C. 892 et seq.), established the HSRP as a Federal Advisory Committee (see 33 U.S.C. 892c) to advise the NOAA Administrator “on matters related to the responsibilities and authorities set forth in [33 U.S.C. 892a]” of the HSIA, “and such other appropriate matters as the Administrator refers to the [HSRP] for review and advice.”

The HSRP invites NOAA stakeholder feedback and welcomes public comments in advance of and during the upcoming HSRP public meeting on the use of NOAA's navigation, observations, and positioning data, science, products, and services for the National Ocean Service's Center for Operational Oceanographic Products and Services, National Geodetic Survey, and Office of Coast Survey, and the NOAA/University of New Hampshire Joint Hydrographic Center. Public comments sent in advance of the HSRP public meeting will be shared with the HSRP members, posted on the meeting website, and included in the public record for the meeting. Individuals and groups may also submit public comments during the scheduled daily public comment periods during the meeting or through the webinar's “Questions” function. These public comments will be read into the record during public comment periods. As time allows, commenters may be invited to orally expand on their written comments during the meeting's public comment periods. Due to time constraints, all public comments may not be addressed orally during the meeting.

Matters To Be Considered:

The HSRP members will focus on the issues relevant to NOAA's navigation, observations, and positioning services, and the value these services bring the Nation, and invite suggestions from stakeholders and partners for improvements to these services. This suite of NOAA services supports safe and efficient navigation, the Blue Economy, resilient coasts and communities, and the nationwide positioning information infrastructure to support America's climate needs and commerce. Specifically, the HSRP will consider:

• National Ocean Service programs' recent activities, such as updates to the National Spatial Reference System, datums, national ocean and coastal mapping goals, hydrographic surveying, nautical charting, uncrewed systems, coastal remote sensing and bathymetric lidar, photogrammetry, positioning, sea level rise, and water levels in support of “seamless data.”

• The status of NOAA's navigation services in the context of recent legislation.

• Measuring, monitoring, and mitigating flooding and sea level change and the contribution of NOAA's critical foundational geospatial data to projects.

• NOAA navigation data, products, and services that enable further economic growth and impact safe navigation.

• Other topics related to NOAA programs and activities, such as bathymetric and coastal/ocean modeling, tide and current observations, resilience and coastal data and information systems to support planning for climate change in ports and coastal communities, flooding/inundation, contributions to the Blue Economy, Physical Oceanographic Real-Time System (PORTS®) sensor enhancements and expansion, Precision Marine Navigation, the transition from raster paper charts to Electronic Navigational Charts, geodetic observations, gravity modeling, data stewardship, education and training to sustain the workforce necessary for NOAA navigation services missions, and scientific mapping and technology research projects tied to cooperative agreements between NOAA and other partners.

Special Accommodations:

This public meeting is accessible to people with disabilities and there will be sign language interpretation and captioning services. Please direct requests for other auxiliary aids to hydroservices.panel@noaa.gov at least 10 business days in advance of the meeting.

Authority: 33 U.S.C. 892 et seq.

Benjamin K. Evans,
Rear Admiral, Director, Office of Coast Survey, National Ocean Service, National Oceanic and Atmospheric Administration.

[FR Doc. 2025-02537 Filed 2-11-25; 8:45 am]

BILLING CODE 3510-G1-P